DEPARTMENT OF LABOR

Employment and Training Administration

[TA-W-72,740]

Bruss North America Russell Springs, Kentucky; Notice of Revised Determination on Reconsideration

Following the issuance of a determination applicable to workers and former workers of Bruss North America, Russell Springs, Kentucky (subject firm), regarding their application for Trade Adjustment Assistance (TAA), the Department received new information relevant to the case. The initial determination was issued on May 28, 2010. The Department's Notice of Determination was published in the Federal Register on June 16, 2010 (75 FR 34175). The subject workers are engaged in employment related to the production of automobile parts and component parts. The worker group does not include any on-site leased workers.

New information obtained during a recent investigation for the subject firm revealed that there was a mistake of facts which were previously considered in the immediate case. Upon review, the Department has determined that the workers and former workers of Bruss North America, Russell Springs, Kentucky, who are engaged in employment related to the production of automobile parts and component parts, meet the criteria as Suppliers for secondary worker certification.

Criterion I has been met because a significant number or proportion of the workers in the workers' firm have become totally or partially separated, or are threatened with separation.

Criterion II has been met because workers of Bruss North America, Russell Springs, Kentucky produced and sold automobile parts and component parts for a firm that employed a worker group eligible to apply for TAA and the component parts are related to the article that was the basis for the TAA certification.

Criterion III has been met because the loss of business by Bruss North America, Russell Springs, Kentucky with the aforementioned firm, with respect to automobile parts and components sold to the firm, contributed importantly to worker separations at Bruss North America, Russell Springs, Kentucky.

Conclusion

After careful review of the additional facts obtained on reconsideration, I determine that workers of the subject firm, who are engaged in employment related to the supply of automobile parts and components, meet the worker group certification criteria under Section 222(c) of the Act, 19 U.S.C. 2272(c). In accordance with Section 223 of the Act, 19 U.S.C. 2273, I make the following certification:

“All workers of Bruss North America, Russell Springs, Kentucky, who became totally or partially separated from employment on or after October 31, 2008, through two years from the date of this revised certification, and all workers in the group threatened with total or partial separation from employment on date of certification through two years from the date of certification, are eligible to apply for adjustment assistance under Chapter 2 of Title II of the Trade Act of 1974, as amended.”

Signed in Washington, DC, this 2nd day of February, 2011.
Del Min Amy Chen,
Certifying Officer, Office of Trade Adjustment Assistance.

[FR Doc. 2011-2967 Filed 2-9-11; 8:45 am]

BILLING CODE 4510-FN-P